DEPARTMENT OF TRANSPORTATION

Maritime Administration

Meeting Notice (Closed)—Marine Transportation System National Advisory Council

AGENCY: Maritime Administration, Department of Transportation.

ACTION: Notice of closed advisory council meeting.

SUMMARY: The Department of Transportation and the Maritime Administration (MARAD) announces that the Marine Transportation System National Advisory Council (MTSNAC) will meet on September 11, 2014. In January 2014, MARAD held a three-day National Maritime Strategy Symposium to discuss issues facing U.S.-flag vessels. The purpose of this initial public meeting was to generate ideas to improve, strengthen, and sustain the cargo opportunities and sealift capacity of the U.S.-flagged fleet engaged in international commercial trade. A second symposium was held in May which focused on domestic shipping, shipbuilding, ports and the needs of maritime stakeholders on the inland waterways, Great Lakes, gulf and coastwise trade. This meeting will be closed pursuant to 5 U.S.C. 552b(c)(3) in order to deliberate on pre-decisional Agency policy documents containing selected concepts submitted to MARAD from interested members of the public during the two symposiums and as comments in response to meeting notices published in the Federal Register to facilitate the development of a National Maritime Strategy (NMS). The input MARAD receives from the Council will be part of its on-going deliberations as it prepares a long term maritime strategy. As this national maritime strategy develops, MARAD will continue to provide additional opportunities for the public to comment.

DATES: The meeting will be held on Thursday, September 11, 2014, from 8:30 a.m. to 5:00 p.m.

ADDRESSES: The meeting will be held in the Media Center at the U.S. Department of Transportation, 1200 New Jersey Ave. SE., Washington, DC 20590.

FOR FURTHER INFORMATION CONTACT: Richard Lolich, (202) 366-0704; Maritime Administration, 1200 New Jersey Ave. SE., MAR-540, Room W21-310, Washington, DC 20590-0001; richard.lolich@dot.gov.

SUPPLEMENTARY INFORMATION: The Marine Transportation System National Advisory Council (MTSNAC) is a chartered, non-federal body that responds to requests from the Maritime Administrator to identify and seek solutions, provide advice and make recommendations on certain maritime matters. The MTSNAC is comprised of 29 leaders from commercial transportation firms, port and water stakeholders, labor, and Federal, state and local public entities. The Council provides a broad maritime stakeholder and academic prospective to Departmental policies that affect efficient and environmentally friendly waterborne freight and passenger movements.

This meeting notice is being given pursuant to section 10 of the Federal Advisory Committee Act of 1972. A determination, as required by section 10(d) of the Federal Advisory Committee Act, has been made that this meeting may be closed to the public in accordance with subsection (c)(3) of section 552b, title 5, the Government in Sunshine Act of 1976. In this instance, the (c)(3) exemption applies because matters to be considered by the advisory committee concern pre-decisional and deliberative Government information. The policy purposes for withholding this sort of information from the public are 1. To encourage open and frank discussions on matters of MARAD policy between subordinates and superiors; 2. To protect against premature disclosure of proposed MARAD policies before they are actually adopted; and 3. To protect against public confusion that might result from disclosure of reasons and rationales that are not in fact ultimately relied on by MARAD. Accordingly, this meeting will not be open to the public.

Authority: 46 U.S.C. 51312; 5 U.S.C. 552b; 41 CFR parts 102-3.140 through 102-3.165; 5 U.S.C. app. Sections 1-16.

* * * * *

By Order of the Maritime Administrator.
Dated: August 21, 2014.
Thomas M. Hudson,
Secretary, Maritime Administration.

[FR Doc. 2014-20305 Filed 8-25-14; 8:45 am]

BILLING CODE 4910-81-P